DEPARTMENT OF JUSTICE

National Institute of Corrections

Solicitation for a Cooperative Agreement—Descriptive Analysis of Community Corrections Strategies for Women Offenders

AGENCY: National Institute of Corrections, Department of Justice.

ACTION: Solicitation for a Cooperative Agreement.

SUMMARY: The Department of Justice (DOJ), National Institute of Corrections (NIC), announces the availability of funds in FY 2000 for a cooperative agreement to develop a descriptive analysis of community corrections options for women offenders. The project will result in a state of the art publication which summarizes descriptive information on community based supervision of women offenders. The project is the second part of a two-phased effort to provide current, relevant information on gender responsive strategies for women offenders in the community. The first phase is a survey of correctional agencies to identify gender responsive approaches. $150,000 are available in FY 2000 for one cooperative agreement award for a fifteen month period for the descriptive analysis.

A cooperative agreement is a form of assistance relationship where the National Institute of Corrections is substantially involved during the performance of the award. An award is made to an organization that will, in concert with the Institute, develop the state of the art document on community based approaches for women offenders. No funds are transferred to state or local governments.

Background

The Community Corrections Division is engaged in a multi-year effort to develop current, relevant information on community-based supervision approaches designed specifically for women defendants and offenders. These approaches may be specialized caseloads or supervision strategies, women-only interventions or groups, a women offender track in a larger program option (such as a separate track in a day reporting center), residential programs, and others. The distinctive feature of these approaches will be a purposeful design to improve outcomes for women in community settings by addressing their specific characteristics, circumstances and needs.

The Two-Part Project

1. The NIC Information Center is conducting the first part of the project, a survey of community based programs for women. The purpose of the survey is to develop a national directory of gender specific approaches employed as pretrial supervision and sentencing options. Directory entries will include the program name, a brief description of the approach or program, and contact information. The survey cover letter and instrument may be downloaded from the NIC website. (Click on “What's New,” then, “Miscellaneous,” to find the entry: Research on Specialized Programs for Women in Community Corrections.) The survey was mailed to approximately 230 State and local corrections agencies in early May, 2000. Many of these agencies made further distribution to local offices and programs.

2. The second part of the project is a descriptive analysis of the different types of approaches identified by the survey. It is the central purpose of this solicitation. The cooperative agreement awardee will take the survey findings—the supervision approaches and programs listed and profiled in the directory—and collect more detailed information through telephone interviews and on-site visits. The work will result in a publication describing the state of the art in community-based supervision of women offenders. It will pay particular attention to programs which collect evaluative information (both process and outcome) and those which employ an assessment component specifically developed for women. The anticipated award date of the cooperative agreement is September 1, 2000.

The national directory (Part 1) also will serve the interests of a new venture in the development of effective options for women offenders: the U.S. DOJ, Office of Justice Program's (OJP) initiative called the Mother-Child Community Corrections Project. The Project will establish a resource center for information and support on the development of community-based residential programs for mothers and their children (as distinct from a prison nursery program). It is the project's hope that these programs will serve as alternatives to jail or prison sentences for women with children. It is a collaborative venture between OJP and two service providers: the Center for Effective Public Policy and the International Community Corrections Association. The results of the NIC national directory project in the area of residential programs for women and their children will be turned over to this new Center for further development.

There are many reasons why the information from this two-part effort is critically important.

• First, most of the available information on women offenders and current program options is on women in custody settings. Very little is known about the range of specialized approaches in the community, in part, because these programs are much harder to find. Many credible efforts are managed and funded entirely on a local basis, and through joint arrangements with other service agencies. In 1991, the National Council on Crime and Delinquency conducted a survey of community corrections programs for women for NIC. This earlier survey focused primarily on programs operated by private, non profit organizations. While the publication, Female Offenders in the Community: An Analysis of Innovative Strategies and Programs, September, 1992, is very useful, many of the programs described are no longer operating. Also, there remains a serious gap in our understanding of strategies employed by public probation, parole and community corrections agencies.

• The survey results will support networking among practitioners interested in creating or refining approaches that are gender responsive to women. Agency administrators, mid-level supervisors and staff working with women offenders often feel isolated and frustrated. This can be due to the constant need to justify doing something“equal but different” for women in corrections where fair, consistent and gender-blind treatment remains an high value. It also results from the very real demands of working with women offenders, given the array of needs and complexity of issues they bring to the criminal justice system. A further part of the challenge of supervising women in the community is that these women also are clients of other agencies and systems with equally demanding requirements (substance abuse and mental health services, child protective custody, welfare to work, and others).

• Finally, NIC is engaged in a project to summarize multi-disciplinary research and practice on gender responsive principles for adult corrections from both operational and programmatic perspectives. Drs. Barbara Bloom and Barbara Owen are co-principal investigators on the NIC, three-year developmental effort. It is already clear that there is a dearth of evaluative research on women offender programs. Much more research is needed to understand what is gender-responsive practice and how it can be measured. The descriptive analysis will provide important information on promising approaches in the community which can serve as “learning” sites for more extensive evaluative research.

Purpose

The National Institute of Corrections is seeking an applicant organization or team which offers the required expertise in research, analysis and writing; publication design; and overall knowledge of women offenders and community corrections.

The purposes of the cooperative agreement are: To conduct a descriptive analysis of various types of supervision approaches identified by the NIC Information Center in the national directory, and to prepare a camera ready publication which summarizes the state of the art in community based approaches for women.

The work activity required by the Project includes, but is not limited to, the following.

• Consult with the NIC Program Manager on project approach and time line to assure progress and understanding of the scope of work.

• Conduct a review of the national directory entries to assess the adequacy of coverage of pretrial and sentenced options for women offenders.

• Thoroughly review existing material developed by other agencies to describe supervision and treatment approaches for women defendants and offenders.

• Conduct necessary planning with content experts to finalize the project methodology and objectives. (The above is subject to final approval by the Program Manager.)

• Coordinate research, analysis, and drafting findings of the descriptive analysis.

• Develop, edit, revise, and format the descriptive analysis publication.

• Submit preliminary draft for review by the Program Manager per the specified time line. Make revisions and submit second draft if requested.

• Prepare all materials using WordPerfect 7.0 or higher word processing software and submit final copies of all materials on 3.5″ computer disks (or zip drive disks) and in “camera ready” hard copy format (4 paper copies).

Application Requirements

Applicants must prepare a proposal that describes their plan to provide the project outcomes. The plan must include goals and objectives, methodology, deliverables, management plan, and a budget and budget narrative for the 15 month project. Applicants must identify their key project staff and the relevant expertise of each, and address the manner in which they would perform all tasks in collaboration with the NIC Project Manager. Proposals are limited to twenty-five double-spaced pages in length, not including resumes, other addenda, and SF-424 forms.

Authority: Public Law 93-415.

Funds Available

Project funds are limited to a maximum total of $150,000 for both direct and indirect costs for 15 months. Funds may only be used for activities that are linked to the desired outcomes of the project.

All products from this funding effort will be in public domain and available to interested agencies through the National Institute of Corrections.

Deadline for Receipt of Applications

Applications must be received by 4:00 p.m. on Tuesday, August 1, 2000. They should be addressed to: National Institute of Corrections, 320 First Street, NW, Room 5007, Washington, DC 20534, Attention: Administrative Officer. Hand delivered applications can be brought to 500 First Street, NW, Washington, D.C. 20534. The Front desk will call Bobbi Tinsley at (202) 307-3106, extension 0 for pickup.

Addresses and Further Information

Requests for the application kit, which consists of copies of this announcement, the required forms, and the survey of community corrections approaches for women offenders' cover letter and instrument, should be directed to Judy Evens, Cooperative Agreement Control Office, National Institute of Corrections, 320 First Street, NW, Room 5007, Washington, DC 20534 or by calling (800) 995-6423, extension 159 or (202) 307-3106, extension 159. She can also be contacted by E-mail via jevens@bop.gov. All technical and/or programmatic questions concerning this announcement should be directed to Phyllis Modley (NIC Project Manager for this project) at the above address or by calling (800) 995-6423 or (202) 307-3106, extension 133, or by E-mail via pmodley@bop.gov. Application forms may also be obtained through the NIC website: http://www.nicic.org. (Click on “What's New” and then, “Cooperative Agreements.”)

Eligible Applicants: An eligible applicant is any state or general unit of local government, public or private agency, educational institution, organization, team, or individual with the requisite skills to successfully meet the outcome objectives of the project.

Review Considerations: Applications received under this announcement will be subjected to an NIC three to five member Peer Review Process.

Number of Awards: One (1).

NIC Application Number: 00C02. This number should appear as a reference line in the cover letter and also in box 11 of Standard Form 424.

The Catalog of Federal Domestic Assistance number is: 16.602.
Dated: June 15, 2000.
Larry B. Solomon,
Deputy Director, National Institute of Corrections.

[FR Doc. 00-15575 Filed 6-20-00; 8:45 am]

BILLING CODE 4410-36-M